DEPARTMENT OF HEALTH AND HUMAN SERVICES

Centers for Disease Control and Prevention

Advisory Committee to the Director (ACD), Centers for Disease Control and Prevention (CDC)—Health Disparities Subcommittee (HDS)

In accordance with section 10(a)(2) of the Federal Advisory Committee Act (Pub. L. 92-463), the Centers for Disease Control and Prevention (CDC) announces the following meeting of the aforementioned committee:

TIME AND DATE: 1:30 p.m.-3:00 p.m., EST, February 2, 2017.

PLACE: Teleconference.

STATUS: Open to the public, limited only by the space and phone lines available. The public is welcome to participate during the public comment period, which is tentatively scheduled from 2:40 p.m. to 2:50 p.m. This meeting will also be available by teleconference. Please dial (866) 918-8397 and enter code 9346283.

PURPOSE: The Subcommittee will provide advice to the CDC Director through the ACD on strategic and other health disparities and health equity issues and provide guidance on opportunities for CDC.

MATTERS FOR DISCUSSION: The Health Disparities Subcommittee members will receive an update on selected recommendations of the HDS and on progress toward a Workforce Diversity Indicator.

Agenda items are subject to change as priorities dictate.

CONTACT PERSON FOR MORE INFORMATION: Leandris Liburd, Ph.D., M.P.H., M.A., Designated Federal Officer, Health Disparities Subcommittee, Advisory Committee to the Director, CDC, 1600 Clifton Road NE., M/S K-77, Atlanta, Georgia 30329. Telephone (404) 498-6482, Email: ACDirector@cdc.gov.

The Director, Management Analysis and Services Office, has been delegated the authority to sign Federal Register notices pertaining to announcements of meetings and other committee management activities, for both the Centers for Disease Control and Prevention and the Agency for Toxic Substances and Disease Registry.

Claudette Grant,
Acting Director, Management Analysis and Services Office, Centers for Disease Control and Prevention.

[FR Doc. 2017-00207 Filed 1-9-17; 8:45 am]

BILLING CODE 4163-18-P